DEPARTMENT OF THE INTERIOR

Bureau of Land Management

[LLORV00000.L10200000.DD0000; HAG 10-0172]

Notice of Public Meeting, Southeast Oregon Resource Advisory Council

AGENCY: Bureau of Land Management, Interior.

ACTION: Notice of public meeting.

SUMMARY: Pursuant to the Federal Land Policy and Management Act and the Federal Advisory Committee Act, the U.S. Department of the Interior, Bureau of Land Management (BLM) Southeast Oregon Resource Advisory Council (SEORAC) will meet as indicated below:

DATES: The SEORAC meeting will begin 8 a.m. PDT on April 14, 2010.

ADDRESSES: The SEORAC will meet at the Burns District Office Conference Room, 28910 Highway 20 West, Hines, Oregon 97738.

FOR FURTHER INFORMATION CONTACT: Mark Wilkening, 100 Oregon Street, Vale, Oregon 97918, (541) 473-6218 or e-mail mark_wilkening@blm.gov.

SUPPLEMENTARY INFORMATION: The business meeting will take place on April 14, 2010 at the Burns District Office Conference Room, 28910 Highway 20 West, Hines, Oregon, from 8 a.m. to 4 p.m. The meeting may include such topics as Election of Officers, 2010 SEORAC Work Plan, BLM Energy Project Team Status Report, Updates on Lakeview and Southeast Oregon Resource Management Plans, BLM Vegetation EIS update, litigation updates, update on the BLM sagebrush/sage-grouse teams, Phase II Blue Mountain Forest Plan, Fremont-Winema Travel Management, and other matters as may reasonably come before the council. The public is welcome to attend all portions of the meeting and may make oral comments to the Council at 1 p.m. on April 14, 2010. Those who verbally address the SEORAC are asked to provide a written statement of their comments or presentation. Unless otherwise approved by the SEORAC Chair, the public comment period will last no longer than 15 minutes, and each speaker may address the SEORAC for a maximum of five minutes. If reasonable accommodation is required, please contact the BLM Vale District Office at (541) 473-6213 as soon as possible.

Dated: March 1, 2010.
Donald N. Gonzalez,
Vale District Manager.

[FR Doc. 2010-4927 Filed 3-8-10; 8:45 am]

BILLING CODE 4310-33-P